SMALL BUSINESS ADMINISTRATION

National Advisory Council; Notice of Cancellation for Public Meeting

The U.S. Small Business Administration (SBA), National Advisory Council public meeting originally scheduled for Friday, June 30, 2006, will be cancelled until further notice. The Web site will be updated with information on the new date, time and location. The Web site is http://www.sba.gov/nac/index.hml.

If you have any questions, please contact Balbina Caldwell, Director of the National Advisory Council, SBA Headquarters, 409 3rd Street, SW., Washington, DC 20416, phone (202) 205-6914, e-mail: Balbina.Caldwell@sba.gov.

Matthew K. Becker,
Committee Management Officer.

[FR Doc. E6-10229 Filed 6-28-06; 8:45 am]

BILLING CODE 8025-01-P